DEPARTMENT OF AGRICULTURE

Federal Crop Insurance Corporation

7 CFR Part 457

RIN 0563-AB91

Common Crop Insurance Regulations, Pecan Revenue Crop Insurance Provisions; Correction

AGENCY: Federal Crop Insurance Corporation, USDA.

ACTION: Final rule; correction.

SUMMARY: This document contains a correction to the final regulation which was published Wednesday, August 25, 2004 (69 FR 52157-52167). The regulation pertains to the insurance of pecans.

EFFECTIVE DATE: October 29, 2004.

FOR FURTHER INFORMATION CONTACT: Linda Williams, Risk Management Specialist, Research and Development, Product Development Division, Federal Crop Insurance Corporation, United States Department of Agriculture, 6501 Beacon Drive, Stop 0812, Room 426, Kansas City, MO 64133-4676, telephone (816) 926-7730.

SUPPLEMENTARY INFORMATION:

Background

The final regulation that is the subject of this correction was intended to convert the pecan revenue pilot crop insurance program to a permanent crop insurance regulation to be used in conjunction with the Common Crop Insurance Policy Basic Provisions for ease of use and consistency of terms.

Need for Correction

As published, the final regulation contained errors which may prove to be misleading and need to be clarified. In section 3 of the crop provisions, paragraph (g) did not specify the percentage amount that is considered as “additional coverage.”

List of Subjects in 7 CFR Part 457

Crop insurance, Pecan, Reporting and recordkeeping requirements.

Correction of Publication

Accordingly, 7 CFR part 457 is corrected by making the following correcting amendments:

PART 457—COMMON CROP INSURANCE REGULATIONS

1. The authority citation for 7 CFR part 457 continues to read as follows:

Authority: 7 U.S.C. 1506(l) and 1506(p).

2. Amend § 457.167 as follows:

a. Revise section 3(g) to read as set forth below;

b. In the Pecan Revenue Example in section 13, remove the dollar figure “$17,000.00” from the last sentence and insert “$17,700.00” in its place;

The revision reads as follows:

§ 457.167 Pecan revenue crop insurance provisions.

* * * * *

3. Insurance Guarantees and Coverage Levels for Determining Indemnities

* * * * *

(g) Hail and fire coverage may be excluded from the covered causes of loss for your insured crop only if you selected additional coverage of not less than 65 percent of your approved average revenue per acre, and you have purchased the same or a higher dollar amount of coverage for hail and fire from us or any other source.

* * * * *

Signed in Washington, DC, on October 25, 2004.
Ross J. Davidson, Jr.,
Manager, Federal Crop Insurance Corporation.

[FR Doc. 04-24164 Filed 10-28-04; 8:45 am]

BILLING CODE 3410-08-P